DEPARTMENT OF LABOR

Employment And Training Administration

[TA-W-54,341]

Textron Fastening Systems, LDR Division, Rockford, Illinois; Notice of Termination of Investigation

Pursuant to section 221 of the Trade Act of 1974, as amended, an investigation was initiated on February 24, 2004, in response to a petition filed by the International Union, United Automobile, Aerospace and Agricultural Implement Workers of America (UAW) on behalf of workers at Textron Fastening Systems, LDR Division, Rockford, Illinois.

The petitioner has requested that the petition be withdrawn. Consequently, the investigation has been terminated.

Signed in Washington, DC, this 27th day of February, 2004.
Linda G. Poole,
Certifying Officer, Division of Trade Adjustment Assistance.

[FR Doc. E4-581 Filed 3-15-04; 8:45 am]

BILLING CODE 4510-13-P